DEPARTMENT OF THE TREASURY

Privacy Act of 1974, as Amended

AGENCY: Departmental Offices, Treasury.

ACTION: Notice of Proposed Privacy Act System of Records.

SUMMARY: In accordance with the Privacy Act of 1974, as amended, the Departmental Offices, U.S. Department of the Treasury (“Treasury”), on behalf of itself and the Consumer Financial Protection Bureau (“CFPB”), gives notice of the establishment of a new Privacy Act System of Records.

DATES: Comments must be received no later than July 15, 2011. The new database will be effective July 15, 2011, unless the comments received result in a contrary determination.

ADDRESSES: Comments should be sent to Claire Stapleton, Consumer Financial Protection Bureau implementation team, 1801 L Street, NW., Washington, DC 20036. Comments will be made available for inspection upon written request. Treasury will make such comments available for public inspection and copying in Treasury's Library, Room 1428, Main Treasury Building, 1500 Pennsylvania Avenue, NW., Washington, DC 20220, on official business days between the hours of 10 a.m. and 5 p.m. Eastern Time. You can make an appointment to inspect comments by telephoning (202) 622-0990. All comments, including attachments and other supporting materials, will become part of the public record and subject to public disclosure. You should submit only information that you wish to make available publicly.

FOR FURTHER INFORMATION CONTACT: Claire Stapleton, Consumer Financial Protection Bureau implementation team, 1801 L Street, NW., Washington, DC 20036, (202) 435-7220.

SUPPLEMENTARY INFORMATION: The Dodd-Frank Wall Street Reform and Consumer Protection Act (“Act”), Public Law 111-203, Title X, established the CFPB. Once fully operational, the CFPB will administer, enforce, and implement Federal consumer financial protection laws, and, among other powers, will have authority to protect consumers from unfair, deceptive, and abusive practices when obtaining consumer financial products or services. The Act grants Treasury certain “interim authority” to help stand up the agency. The CFPB implementation team, which includes both Treasury and CFPB personnel, will maintain the records covered by this notice. The new system of records described in this notice, Treasury/DO.318—CFPB Implementation Team Correspondence Tracking Database, will track and process controlled correspondence. The Correspondence Tracking Database will allow the CFPB implementation team to keep track of official correspondence while it is being actively handled.

The report of the new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000, and the Privacy Act, 5 U.S.C. 552a(r).

Dated: May 31, 2011.
Melissa Hartman,
Deputy Assistant Secretary for Privacy, Transparency, and Records.

TREASURY/DO .318

System Name:

Consumer Financial Protection Bureau (CFPB) Implementation Team Correspondence Tracking Database.

System Location:

CFPB implementation team, 1801 L Street, NW., Washington, DC 20036.

Categories of individuals covered by the system:

Individuals covered by this system are those whose correspondence is submitted to the CFPB implementation team and members of the CFPB implementation team assigned to help process, review and/or respond to the correspondence.

Categories of records in the system:

Records maintained in the database may contain (1) correspondence (including, without limitation, official letters, memoranda, faxes, telegrams, and e-mails) received and sent; (2) mailing lists of correspondence submitters; (3) identifying information regarding both the individual who is submitting the correspondence or the individual or entity on whose behalf such correspondence is submitted, such as the individual's name, phone number, address, e-mail address, and any other disclosed identifiable information; (4) information concerning the CFPB implementation team employees responsible for processing the correspondence; (5) correspondence disposition information; (6) correspondence tracking dates; and (7) internal office assignment information. Supporting records may include correspondence between the CFPB implementation team and the individual. Records related to consumer complaints will not be contained in this system.

Authority for maintenance of the system:

Public Law 111-203, Title X, Sections 1012, 1066, codified at 12 U.S.C. 5492, 5586.

Purpose:

The purpose of the information database is to enable the CFPB implementation team to track correspondence, including responsibilities for processing, tracking, responding to, or referring sensitive and/or time-critical correspondence for appropriate processing and responsive action.

Routine uses of records maintained in the system, including categories of users and the purposes of such uses:

These records may be disclosed to:

(1) Appropriate agencies, entities, and persons when: (a) Treasury or the CFPB suspects or has confirmed that the security or confidentiality of information in the system of records has been compromised; (b) Treasury or the CFPB has determined that, as a result of the suspected or confirmed compromise, there is a risk of harm to economic or property interests, identity theft or fraud, or harm to the security or integrity of this system or other systems or programs (whether maintained by Treasury or the CFPB or another agency or entity) that rely upon the compromised information; and (c) the disclosure made to such agencies, entities, and persons is reasonably necessary to assist in connection with Treasury's or the CFPB's efforts to respond to the suspected or confirmed compromise and prevent, minimize, or remedy such harm.

(2) A contractor or agent who needs to have access to this system of records to perform an assigned activity;

(3) The U.S. Department of Justice (“DOJ”) for its use in providing legal advice to the Treasury or the CFPB or in representing the Treasury or the CFPB in a proceeding before a court, adjudicative body, or other administrative body before which the Treasury or the CFPB is authorized to appear, where the use of such information by the DOJ is deemed by the Treasury or the CFPB to be relevant and necessary to the litigation, and such proceeding names as a party or interests:

(a) The Treasury or any component thereof;

(b) The CFPB;

(c) Any employee of the Treasury or the CFPB in his or her official capacity;

(d) Any employee of the Treasury or the CFPB in his or her individual capacity where DOJ has agreed to represent the employee; or

(e) The United States, where the Treasury or the CFPB determines that litigation is likely to affect the Treasury or any of its components or the CFPB.

(4) Appropriate agencies, entities, and persons, to the extent necessary to respond to or refer correspondence;

(5) A court, magistrate, or administrative tribunal, including disclosures to opposing counsel or witnesses in the course of civil discovery, litigation, or settlement negotiations or in connection with criminal law proceedings when the Treasury or the CFPB is party to the proceeding or has a significant interest in the proceeding;

(6) A grand jury pursuant either to a Federal or state grand jury subpoena, or to a prosecution request that such record be released for the purpose of its introduction to a grand jury, where the subpoena or request has been specifically approved by a court;

(7) Congressional offices in response to correspondence submitted at the request of the individual to whom the record pertains;

(8) Appropriate Federal, foreign, state, local, Tribal, or other public authorities or self-regulatory organizations responsible for investigating or prosecuting the violations of, or for enforcing or implementing, a statute, rule, regulation, order, or license, where the disclosing agency becomes aware of an indication of a violation of civil or criminal law or regulation;

(9) Another Federal agency to (a) permit a decision as to access, amendment, or correction of records to be made in consultation with or by that agency, or (b) verify the identity of an individual or the accuracy of information submitted by an individual who has requested access to, amendment of, or correction of records.

Policies and practices for storing, retrieving, accessing, retaining, and dispensing of records in the system:

Storage:

Records maintained in this system are stored electronically and in file folders. Paper copies of individual records are made by the authorized CFPB implementation team staff.

Retrievability:

Records are retrievable by the name of the individual covered by the system, date of correspondence, or correspondence control number.

Safeguards:

Access to electronic records is restricted to authorized personnel who have been issued non-transferrable access codes and passwords. Other records are maintained in locked file cabinets or rooms with access limited to those personnel whose official duties require access.

Retention and disposal:

Computer and paper records will be maintained indefinitely until a records disposition schedule is approved by the National Archives and Records Administration.

System manager(s) and address:

Consumer Financial Protection Bureau implementation team, 1801 L Street, NW., Washington, DC 20036.

Notification procedure:

Individuals seeking notification and access to any record contained in this database, or seeking to contest its content, may inquire in writing in accordance with instructions appearing at 31 CFR part 1, subpart C, appendix A. Address such requests to: Director, Disclosure Services, Department of Treasury, 1500 Pennsylvania Avenue, NW., Washington, DC 20220.

Record access procedures:

See “Notification Procedures,” above.

Contesting record procedures:

See “Notification Procedures,” above.

Record source categories:

Information in this system is maintained about individuals who submit correspondence to the CFPB implementation team and employees assigned to help process, review, or respond to correspondence.

Exemptions claimed for the system:

None.

[FR Doc. 2011-14834 Filed 6-14-11; 8:45 am]

BILLING CODE 4810-25-P